DEPARTMENT OF AGRICULTURE

U.S. Codex Office

[Docket No. USDA-2021-XXXX]

International Standard-Setting Activities

AGENCY: Trade and Foreign Agricultural Affairs (TFAA), USDA.

ACTION: Notice.

SUMMARY: This notice informs the public of the sanitary and phytosanitary standard-setting activities of the Codex Alimentarius Commission (Codex), in accordance with the Trade Agreements Act of 1979, as amended, and the Uruguay Round Agreements Act. This notice also provides a list of other standard-setting activities of Codex, including commodity standards, guidelines, codes of practice, and revised texts. This notice, which covers Codex activities during the time periods from June 21,2020 to May 31, 2021 and June 1, 2021 to May 31, 2022, seeks comments on standards under consideration and recommendations for new standards.

ADDRESSES: The U.S. Codex Office (USCO) invites interested persons to submit their comments on this notice. Comments may be submitted by one of the following methods:

• Federal e-Rulemaking Portal: This website provides the ability to type short comments directly into the comment field on this web page or attach a file for lengthier comments. Go to http://www.regulations.gov. Follow the on-line instructions at the website for submitting comments.

• Mail, including CD-ROMs, etc.: Send to Docket Clerk, U.S. Department of Agriculture, Trade and Foreign Agricultural Affairs, 1400 Independence Avenue SW, Mailstop S4861, Washington, DC 20250-3700.

• Hand- or courier-delivered submittals: Deliver to 1400 Independence Avenue SW, Room 4861, Washington, DC 20250-3700.

Instructions: All items submitted by mail or email are to include the Agency name and docket number USDA-2021-XXXX. Comments received in response to this docket will be made available for public inspection and posted without change, including any personal information to http://www.regulations.gov.

Please state that your comments refer to Codex and, if your comments relate to specific Codex committees, please identify the committee(s) in your comments and submit a copy of your comments to the delegate from that committee.

Docket: For access to background documents or comments received, call (202) 720-5627 to schedule a time to visit the TFAA Docket Room at 1400 Independence Avenue SW, Room S4861, Washington, DC 20250-3700.

FOR FURTHER INFORMATION CONTACT: Ms. Mary Frances Lowe, United States Manager for Codex Alimentarius, U.S. Department of Agriculture, Office of the Under Secretary for Trade and Foreign Agricultural Affairs, U.S. Codex Office, South Agriculture Building, 1400 Independence Avenue SW, Room 4861, Washington, DC 20250-3700; Telephone: +1 (202) 205-7760; Fax: +1 (202) 720-3157; Email: uscodex@usda.gov.

For information pertaining to committees, contact the delegate of that committee. A complete list of U.S. delegates and alternate delegates can be found in Attachment 2 of this notice. Documents pertaining to Codex and specific committee agendas are accessible via the internet at http://www.fao.org/fao-who-codexalimentarius/meetings/en/. The U.S. Codex Office (USCO) also maintains a website at http://www.usda.gov/codex.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). United States membership in the WTO was approved and the Uruguay Round Agreements Act (Uruguay Round Agreements) was signed into law by the President on December 8, 1994, Public Law 103-465, 108 Stat. 4809. The Uruguay Round Agreements became effective, with respect to the United States, on January 1, 1995. The Uruguay Round Agreements amended the Trade Agreements Act of 1979. Pursuant to section 491 of the Trade Agreements Act of 1979, as amended, the President is required to designate an agency to be “responsible for informing the public of the sanitary and phytosanitary (SPS) standard-setting activities of each international standard-setting organization” (19 U.S.C. 2578). The main international standard-setting organizations are Codex, the World Organisation for Animal Health (OIE), and the International Plant Protection Convention. The President, pursuant to Proclamation No. 6780 of March 23, 1995, (60 FR 15845), designated the U.S. Department of Agriculture as the agency responsible for informing the public of the SPS standard-setting activities of each international standard-setting organization. The Secretary of Agriculture has delegated to the Trade and Foreign Agricultural Affairs Mission Area the responsibility to inform the public of the SPS standard-setting activities of Codex. The Trade and Foreign Agricultural Affairs Mission Area has, in turn, assigned the responsibility for informing the public of the SPS standard-setting activities of Codex to the U.S. Codex Office (USCO).

Codex was created in 1963 by two United Nations organizations, the Food and Agriculture Organization (FAO) and the World Health Organization (WHO). Codex is the principal international organization for establishing standards for food. Through adoption of food standards, codes of practice, and other guidelines developed by its committees, and by promoting their adoption and implementation by governments, Codex seeks to protect the health of consumers, ensure fair practices in the food trade, and promote coordination of food standards work undertaken by international governmental and nongovernmental organizations. In the United States, U.S. Codex activities are managed and carried out by the United States Department of Agriculture (USDA); the Food and Drug Administration (FDA), Department of Health and Human Services (HHS); the National Oceanic and Atmospheric Administration (NOAA), Department of Commerce (DOC); and the Environmental Protection Agency (EPA).

As the agency responsible for informing the public of the SPS standard-setting activities of Codex, the USCO publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

TO OBTAIN COPIES OF THE STANDARDS LISTED IN ATTACHMENT 1, PLEASE CONTACT THE U.S. DELEGATE OR THE U.S. CODEX OFFICE.

This notice also solicits public comment on standards that are currently under consideration or planned for consideration and recommendations for new standards. The U.S. delegate, in conjunction with the responsible agency, will take the comments received into account in participating in the consideration of the standards and in proposing matters to be considered by Codex.

The U.S. delegate will facilitate public participation in the United States Government's activities relating to Codex. The U.S. delegate will maintain a list of individuals, groups, and organizations that have expressed an interest in the activities of the Codex committees and will disseminate information regarding U.S. delegation activities to interested parties. This information will include the status of each agenda item; the U.S. Government's position or preliminary position on the agenda items; and the time and place of planning meetings and debriefing meetings following the Codex committee sessions. In addition, the USCO makes much of the same information available through its web page at http://www.usda.gov/codex. If you would like to access or receive information about specific committees, please visit the web page or notify the appropriate U.S. delegate or the U.S. Codex Office, Room 4861, South Agriculture Building, 1400 Independence Avenue SW, Washington, DC 20250-3700 (uscodex@usda.gov).

The information provided in Attachment 1 describes the status of Codex standard-setting activities by the Codex committees for the time periods from June 21,2020 to May 31, 2021 and June 1, 2021 to May 31, 2022. Attachment 2 provides a list of U.S. Codex officials (including U.S. delegates and alternate delegates). A list of forthcoming Codex sessions may be found at: http://www.codexalimentarius.org/meetings-reports/en/.

Additional Public Notification

Public awareness of all segments of rulemaking and policy development is important. Consequently, the USCO will announce this Federal Register publication on-line through the U.S. Codex web page located at: https://www.federalregister.gov/agencies/us-codex-office.

Done at Washington, DC.
Mary Lowe,
U.S. Manager for Codex Alimentarius.

Attachment 1

Sanitary and Phytosanitary Activities of Codex

Codex Alimentarius Commission and Executive Committee

The Codex Alimentarius Commission (CAC) is scheduled to convene virtually for its 44th Session on November 8-13, 2021 due to ongoing concerns related to the novel coronavirus (COVID-19) pandemic. At its 44th Session, the Commission will consider adopting standards recommended by committees at Step 8 or 5/8 (final adoption) and advance the work of committees by adopting draft standards at Step 5 (for further comment and consideration by the relevant committee). The Commission will also consider revocation of Codex texts; proposals for new work; discontinuation of work; amendments to Codex standards and related texts; and other matters arising from the Reports of the Executive Committee and subsidiary bodies. Although the agenda for the 44th Session is not yet available, it is expected that the Commission will also consider Codex budgetary and financial matters; FAO/WHO scientific support to Codex (activities, budgetary and financial matters); matters arising from FAO/WHO; reports of side events; election of the chairperson and vice-chairpersons and members of the Executive Committee elected on a geographical basis; designation of countries responsible for appointing the chairpersons of Codex subsidiary bodies; any other business; and adoption of the report.

Before the Commission meeting, the Executive Committee (CCEXEC) is scheduled to meet virtually, due to COVID-19 related issues, for its 81st Session on November 1-5, 2021. CCEXEC is composed of the Commission chairperson; vice-chairpersons; seven members elected by the Commission from each of the following geographic regions: Africa, Asia, Europe, Latin America and the Caribbean, Near East, North America, and South-West Pacific; and regional coordinators from the six regional coordinating committees. The United States will participate as the member elected on a geographical basis for North America. The Executive Committee agenda for the 81st session is not yet available.

Responsible Agency: USDA/TFAA/USCO.

U.S. Participation: Yes.

Codex Committee on Cereals, Pulses and Legumes

The Codex Committee on Cereals, Pulses and Legumes (CCCPL) elaborates worldwide standards and/or Codes of Practice, as appropriate, for cereals, pulses and legumes and their products.

Since there was no consensus to include the section on grain size in the Standard for Quinoa, CCCPL adjourned sine die following the 43rd session of the Commission (CAC43, virtual session, September 24-November 6, 2020).

Responsible Agencies: HHS/FDA/Center for Food Safety and Applied Nutrition (CFSAN).

U.S. Participation: Yes.

Codex Committee on Contaminants in Foods

The Codex Committee on Contaminants in Foods (CCCF) establishes or endorses recommended maximum levels (MLs) to be legally permitted in a commodity, and, where necessary, revises existing guideline levels (GLs) for contaminants and naturally occurring toxicants in food and feed; prepares priority lists of contaminants and naturally occurring toxicants for risk assessment by the Joint FAO/WHO Expert Committee on Food Additives (JECFA); considers and elaborates methods of analysis and sampling for the determination of contaminants and naturally occurring toxicants in food and feed; considers and elaborates standards or codes of practice (CoPs) for related subjects; and considers other matters assigned to it by the Commission in relation to contaminants and naturally occurring toxicants in food and feed.

The 14th Session of the CCCF, originally scheduled for April 20-24, 2020, in Utrecht, Netherlands, was rescheduled due to ongoing concerns related to the Coronavirus (COVID-19) pandemic. The Committee met virtually on May 3-13, 2021.

The Committee considered the following items that will be considered by the 44th Session of the Commission.

• Proposed draft revision of the Code of Practice for the Prevention and Reduction of Lead Contamination in Foods (CXS 56-2004) (recommended for final adoption);

• Proposed draft MLs for cadmium in chocolate and chocolate products containing or declaring ≥30% to <50% total cocoa solids on a dry matter basis (recommended for final adoption); Proposed draft code of practice for the prevention and reduction of cadmium contamination in cocoa beans at Step 5 (interim adoption;

• Proposals for new work on MLs for methylmercury in additional fish species; sampling plans and other risk management recommendations (recommended by CCCF for approval of new work).

The Committee will continue working on:

Proposed draft MLs for cocoa powder (100% total cocoa solids on a dry matter basis);

• Proposed draft MLs for lead in selected commodities for inclusion in the General Standard for Contaminants and Toxins in Food and Feed (GSCTFF) (CXS 193-1995);

• Proposed draft MLs for total aflatoxins in certain cereals and cereal based products including foods for infants and young children;

• Proposed draft ML for total aflatoxins in ready-to-eat peanuts and associated sampling plan;

• Proposed draft MLs for total aflatoxins and ochratoxin A in nutmeg, dried chili and paprika, ginger, pepper and turmeric, and associated sampling plans;

• Discussion paper on the CoP for the prevention and reduction of mycotoxin contamination in cassava and cassava-based products;

• General guidance on data analysis for ML development and for improved data collection;

• Discussion paper on approach to identify the need for revision of standards and related texts developed by CCCF;

• Forward work plan for CCCF, including:

○ Review of staple food-contaminant combinations for future work of CCCF;

• Priority list of contaminants and naturally occurring toxicants for evaluation by JECFA; and

• Follow-up work to the outcome of JECFA evaluations.

Responsible Agencies: HHS/FDA; USDA/Food Safety and Inspection Service (FSIS).

U.S. Participation: Yes.

Codex Committee on Food Additives

The Codex Committee on Food Additives (CCFA) establishes or endorses acceptable maximum levels (MLs) for individual food additives; prepares a priority list of food additives for risk assessment by the JECFA; assigns functional classes to individual food additives; recommends specifications of identity and purity for food additives for adoption by the Codex Alimentarius Commission; considers methods of analysis for the determination of additives in food; and considers and elaborates standards or codes of practice for related subjects such as the labeling of food additives when sold as such.

The 52nd Session of the CCFA, originally scheduled for March 2-6, 2020, in Lanzhou, China, was postponed due to ongoing concerns related to the coronavirus (COVID-19) pandemic. The Committee is scheduled to meet virtually on September 1-10, 2021.

The Committee will continue working on:

• Draft and Proposed draft food additive provisions of the General Standard for Food Additives (GSFA) (electronic and physical working groups led by the United States);

• Proposals for additions and changes to the priority list of substances proposed for evaluation by JECFA (physical working group (PWG) led by Canada);

• Alignment of the food additive provisions of commodity standards and relevant provisions of the GSFA (electronic working group (EWG) led by Australia, Japan and the United States);

• Revision of the class names and the international numbering system for food additives (EWG led by Belgium);

• Provisions related to the use of sweeteners with Note 161 attached to (1) determine if sweeteners or flavor enhancers are justified in specific food categories and (2) developing wording for an alternative to Note 161 relating to the use of sweeteners or flavor enhancers in food categories where the use is technologically justified;

• Issues with the online GSFA which prevent the implementation of Committee decisions and to inform the Executive Committee on this matter.

The Committee will hold a one and half day PWG on the GSFA immediately preceding the 52nd Session of CCFA, to be chaired by the United States. That group will discuss:

• The recommendations of the EWG on the GSFA and new proposals and proposed revisions of food additive provisions in the GSFA.

The Committee will hold a half day PWG immediately preceding the 52nd Session of CCFA on alignment of the food additive provisions of commodity standards and relevant provisions of the GSFA, to be chaired by Australia. That group will discuss the recommendations of the EWG on alignment.

Responsible Agency: HHS/FDA/CFSAN.

U.S. Participation: Yes.

Codex Committee on Food Hygiene

The Codex Committee on Food Hygiene (CCFH) is responsible for developing basic provisions on food hygiene, applicable to all food; considering and amending or endorsing provisions on food hygiene contained in Codex commodity standards and Codex codes of practice developed by other committees; considering specific food hygiene problems assigned to it by the Commission; suggesting and prioritizing areas where there is a need for microbiological risk assessment at the international level and developing questions to be addressed by the risk assessors; and considering microbiological risk management matters in relation to food hygiene and in relation to the FAO/WHO risk assessments.

The 52nd Session of CCFH (CCFH52), originally scheduled for November 16-20, 2020, in San Diego, California, United States, has been postponed due to ongoing concerns related to the coronavirus (COVID-19) pandemic. CCFH52 is scheduled to convene November 29-December 3, 2021.

Since the 44th Session of the Commission will convene prior to the 52nd Session of the CCFH, the Committee will continue working on:

• Diagram/decision tree to accompany the draft revision of the General Principles of Food Hygiene (CXC 1-1969);

• Redrafting proposed draft guidelines for the control of Shiga toxin producing Escherichia coli (STEC) in raw beef, raw milk and raw milk cheeses, fresh leafy vegetables, and sprouts;

• Guidelines for the safe use and reuse of water in food production; and

• New work proposals/forward workplan.

Responsible Agencies: HHS/FDA/CFSAN; USDA/FSIS.

U.S. Participation: Yes.

Codex Committee on Food Import and Export Inspection and Certification Systems

The Codex Committee on Food Import and Export Inspection and Certification Systems (CCFICS) is responsible for developing principles and guidelines for food import and export inspection and certification systems, with a view to harmonizing methods and procedures that protect the health of consumers, ensure fair trading practices, and facilitate international trade in foodstuffs; developing principles and guidelines for the application of measures by the competent authorities of exporting and importing countries to provide assurance, where necessary, that foodstuffs comply with requirements, especially statutory health requirements; developing guidelines for the utilization, as and when appropriate, of quality assurance systems to ensure that foodstuffs conform with requirements and promote the recognition of these systems in facilitating trade in food products under bilateral/multilateral arrangements by countries; developing guidelines and criteria with respect to format, declarations, and language of such official certificates as countries may require with a view towards international harmonization; making recommendations for information exchange in relation to food import/export control; consulting as necessary with other international groups working on matters related to food inspection and certification systems; and considering other matters assigned to it by the Commission in relation to food inspection and certification systems.

The 25th Session of the CCFICS, originally scheduled for April 27-May 1, 2020, in Hobart, Tasmania, Australia, was postponed due to ongoing concerns related to the coronavirus (COVID-19) pandemic. The Committee is scheduled to meet virtually on May 31-June 8, 2021.

The Committee will continue working on:

• Draft principles and guidelines for the assessment and use of voluntary Third-Party Assurance (vTPA) programs;

• Proposed draft guidance on paperless use of electronic certificates (revision of the Guidelines for Design, Production, Issuance and Use of Generic Official Certificates (CXG 38-2001));

• Proposed draft guidelines on recognition and maintenance of equivalence of National Food Control Systems (NFCS);

• Proposed draft consolidated Codex Guidelines related to equivalence; and

• Discussion paper on role of CCFICS with respect to tackling food fraud in the context of food safety and fair practices in food trade.

• Review and update the list of emerging global issues.

Responsible Agencies: USDA/FSIS; HHS/FDA/CFSAN.

U.S. Participation: Yes.

Codex Committee on Food Labelling

The Codex Committee on Food Labelling (CCFL) drafts provisions on labeling applicable to all foods; considers, amends, and endorses draft specific provisions on labeling prepared by the Codex Committees drafting standards, codes of practice, and guidelines; and studies specific labeling problems assigned to it by the Codex Alimentarius Commission. The Committee also studies problems associated with the advertisement of food with particular reference to claims and misleading descriptions.

The 46th Session of the CCFL is scheduled to meet virtually, due to ongoing concerns related to the coronavirus (COVID-19) pandemic, on September 27-October 1, 2021. At this time, CCFL does not have any items to be considered for adoption or approval by the 44th Session of the Commission.

The Committee will continue working on:

• Draft Guidance for the Labelling of Non-Retail Containers;

• Proposed draft Guidelines on Front-of-Pack Nutrition Labeling;

• Proposed draft Guidelines on internet Sales/e-Commerce;

• Proposed draft revision to the General Standard for the Labelling of Prepackaged Foods: Provisions relevant to allergen labeling and proposed draft Guidance on Precautionary Allergen Labeling;

• Discussion paper on innovation—use of technology in food labeling;

• Discussion paper on labeling of alcoholic beverages;

• Discussion Paper on labeling of foods in joint presentation and multipack formats; and

• Discussion paper on future work and direction of CCFL.

Responsible Agencies: HHS/FDA/CFSAN; USDA/FSIS.

U.S. Participation: Yes.

Codex Committee on Fats and Oils

The Codex Committee on Fats and Oils (CCFO) is responsible for elaborating worldwide standards for fats and oils of animal, vegetable, and marine origin, including margarine and olive oil.

The Committee is scheduled to host its 27th session virtually on October 18-26, 2021.

The Committee will continue working on:

• Revision of the Standard for Named Vegetable Oils (CXS 201-1999): Essential composition of sunflower seed oils;

• Revision of the Standard for Named Vegetable Oils (CXS 210-1999): Inclusion of avocado oil;

• Revision of the Standard for Olive Oils and Pomace Olive Oils (CXS 33-1981); and

• Proposals for new substances to be added to the list of acceptable previous cargo (Appendix II to RCP 36-1987).

Responsible Agencies: HHS/FDA/CFSAN; USDA/Agricultural Research Service (ARS).

U.S. Participation: Yes.

Codex Committee on Fish and Fishery Products

The Committee on Fish and Fishery Products (CCFFP) is responsible for elaborating standards for fresh, frozen, and otherwise processed fish, crustaceans, and mollusks. The 35th session of CCFFP will work by correspondence from September 20th to October 20th, 2021.

The Committee will work on the following item:

• To evaluate if the Standard for Canned Sardines and Sardine-Type Products (CXS 94-1981) could be amended to include the fish species S. lemuru (Bali Sardinella) in the list of Sardinella species under section 2.1.

Responsible Agencies: HHS/FDA; DOC/NOAA/National Marine Fisheries Service (NMFS).

U.S. Participation: Yes.

Codex Committee on General Principles

The Codex Committee on General Principles (CCGP) is responsible for procedural and general matters referred to it by the Codex Alimentarius Commission, including: (a) The review or endorsement of procedural provisions/texts forwarded by other subsidiary bodies for inclusion in the Procedural Manual of the Codex Alimentarius Commission; and (b) The consideration and recommendation of other amendments to the Procedural Manual.

The 32nd Session of the CCGP met virtually February 8-17, 2021 and completed work on the following item, to be considered by the 44th Session of the Commission:

• Procedural guidance for committees working by correspondence.

The Codex Secretariat is expected to present a proposal on revisions/amendments to Codex texts to CAC44 for possible referral to CCGP. The 33rd Session of the CCGP is projected for early Fall 2022 in France. Depending on the outcome of consideration by the Commission (CAC44), the Committee may continue discussions on:

• Revisions/amendments to Codex texts; and

• Format and structure of the Codex Procedural Manual.

Responsible Agencies: USDA/TFAA/USCO and HHS/FDA/CFSAN.

U.S. Participation: Yes.

Codex Committee on Methods of Analysis and Sampling

The Codex Committee on Methods of Analysis and Sampling (CCMAS) defines the criteria appropriate to Codex Methods of Analysis and Sampling; serves as a coordinating body for Codex with other international groups working on methods of analysis and sampling and quality assurance systems for laboratories; specifies, on the basis of final recommendations submitted to it by the bodies referred to above, reference methods of analysis and sampling appropriate to Codex standards which are generally applicable to a number of foods; considers, amends if necessary, and endorses as appropriate, methods of analysis and sampling proposed by Codex (commodity) committees, except for those methods of analysis and sampling for residues of pesticides or veterinary drugs in food, the assessment of microbiological quality and safety in food, and the assessment of specifications for food additives; elaborates sampling plans and procedures, as may be required; considers specific sampling and analysis problems submitted to it by the Commission or any of its committees; and defines procedures, protocols, guidelines or related texts for the assessment of food laboratory proficiency, as well as quality assurance systems for laboratories.

The 41st Session of the CCMAS, originally scheduled for May 11-15, 2020, in Budapest, Hungary was postponed due to ongoing concerns related to the coronavirus (COVID-19) pandemic. CCMAS met virtually on May 17-21 and 25, 2021.

The Committee recommended the following matters for consideration by CAC44:

• Adoption of the following methods for inclusion in the Recommended Methods of Analysis and Sampling (CXS 234-1999): AOAC 2011.14/ISO 15151 | IDF 229 as Type III for calcium, copper, iron, magnesium, manganese, phosphorus, potassium, sodium and zinc in special foods;

• Adoption of an editorial amendment to the provision in Section 3.3 of the Standard for Edible Casein Products (CXS 290-1995) to change “maximum free acid” to “maximum free acidity” as this is a more appropriate description of the provision;

• Adoption of methods and numeric criteria for milk products as endorsed for inclusion in CXS 234-1999, to be accompanied by revocation of the existing methods;

• Final adoption at Step 8 of the revised Guidelines on Measurement Uncertainty (CXG 54-2004); and

• Interim adoption at Step 5 of the revised General Guidelines on Sampling (CXG 50-2004).

At its next session, the Committee will continue working on:

• Endorsement of Methods of Analysis and Sampling Plans for Provisions in Codex Standards;

• Revision of the Dairy Methods Workable Package;

• Revision of the Fats and Oils Methods Workable Package;

• Revision of the Cereals, Pulses, and Legumes Workable Package;

• Revision of the General Guidelines on Sampling (CXG 50-2004);

• Discussion on the Report of an Inter-Agency Meeting on Methods of Analysis; and

• Discussion Paper on Criteria to Select Type II Methods from Multiple Type III Methods.

Responsible Agencies: HHS/Food and Drug Administration (FDA)/Center for Food Safety and Nutrition (CFSAN); USDA/Agricultural Marketing Service (AMS).

U.S. Participation: Yes.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines, or related texts for foods for special dietary uses in cooperation with other committees where necessary; considers, amends if necessary, and endorses provisions on nutritional aspects proposed for inclusion in Codex standards, guidelines, and related texts.

The Committee is scheduled to meet virtually from November 19-December 1, 2021. It does not have any items that will be considered for adoption or approval by the 44th Session of the Commission.

The Committee is expected to continue working on:

• Review of the Standard for Follow-up Formula—Section A (Older Infants): Scope, Description, and Labelling (CXS 156-1987);

• Review of the Standard for Follow-up Formula—Section A (Older Infants) and Section B (Young Children): Essential Composition Requirements (CXS 156-1987);

• Review of the Standard for Follow-up Formula: Remaining sections;

• Proposed draft Guideline for Ready-to-Use Therapeutic Foods (RUTF);

• Proposed draft General Principles for the establishment of NRVs-R for persons aged 6-36 months (CXG 2-1985);

• Discussion Paper on the development of nutrient profiling for labeling purposes; and

• Discussion Paper on the technological justification for several food additives.

Responsible Agencies: HHS/FDA/CFSAN; USDA/ARS.

U.S. Participation: Yes.

Codex Committee on Pesticide Residues

The Codex Committee on Pesticide Residues (CCPR) is responsible for establishing maximum residue limits (MRLs) for pesticide residues in specific food items or in groups of food; establishing MRLs for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues; and establishing maximum limits for environmental and industrial contaminants showing chemical or other similarity to pesticides in specific food items or groups of food.

The 52nd Session of the CCPR, originally scheduled for March 30-April 4, 2020, in Guangzhou, China, was postponed due to ongoing concerns related to the coronavirus (COVID-19) pandemic. The Committee is scheduled to meet virtually on July 26-31, 2021.

The CCPR agenda is currently unavailable and it is not yet possible to determine CCPR recommended adoptions or approvals at CAC44.

At its 52nd Session, the Committee is expected to consider:

• Revision of the Classification of Food and Feed (CXA 4-1989) for selected commodity groups:

○ Revision of Class C, animal feed commodities, taking into account silage, fodder, and a separate group for grasses;

○ Revision of Class D, processed food commodities;

○ Transferring commodities from Class D to Class C;

○ Creating tables with representative crops for Class C and D; and

○ Edible animal tissues (including edible offal), in collaboration with the Codex Committee on Residues of Veterinary Drugs in Foods (CCRVDF) EWG on edible animal tissues.

• Harmonization of mammalian meat MRLs between CCPR and CCRVDF;

• Establishment of a Codex database of national registration of pesticides;

• Establishment of JMPR schedules and priority lists for evaluations of pesticides;

• Discussion paper on the review of the international estimated short-term intake (IESTI) equations (possible revision);

• Guidelines for compounds of low public health concern that could be exempted from the establishment of Codex maximum residue limits for pesticides (CXLs);

• Management of unsupported compounds in the CCPR schedules and priority lists of pesticides for evaluation by the JMPR;

• Review of the Guidelines on the use of mass spectrometry for the identification, confirmation and quantitative determination of pesticide residues (CXG 56-2005) and the Guidelines on performance criteria for methods of analysis for the determination of pesticide residues in food and feed (CXG 90-2017); and

• Opportunities and challenges for JMPR participation in international review of a new compound.

Responsible Agencies: EPA/Office of Chemical Safety and Pollution Prevention (OCSPP)/Office of Pesticide Programs (OPP); USDA/FSIS.

U.S. Participation: Yes.

Codex Committee on Residues of Veterinary Drugs in Foods

The Codex Committee on Residues of Veterinary Drugs in Foods (CCRVDF) determines priorities for the consideration of residues of veterinary drugs in foods and recommends Maximum Residue Limits (MRLs) for veterinary drugs. The Committee also develops codes of practice, as may be required, and considers methods of sampling and analysis for the determination of veterinary drug residues in food.

The 25th Session of CCRVDF, originally scheduled for May 25-29, 2020, in San Diego, California, United States, has been postponed due to ongoing concerns related to the coronavirus (COVID-19) pandemic. The Committee is scheduled to meet virtually on July 12-16, 2021 with adoption of the report taking place on July 20, 2021.

The Committee will continue working on:

• Draft MRL for flumethrin (honey);

• Draft MRLs for diflubenzuron (salmon—muscle plus skin in natural proportion); halquinol (in swine—muscle, skin plus fat, liver and kidney); ivermectin (sheep, pigs and goats—fat, kidney, liver and muscle);

• Draft MRLs for zilpaterol hydrochloride (cattle fat, kidney, liver, muscle);

• Discussion paper on extrapolation of MRLs to one or more species (including a pilot on extrapolation of MRLs identified in Part D of the Priority List—REP18/RVDF, App. VI);

• Discussion paper on the development of a harmonized definition for edible tissues of animal origin (including edible offal) (in coordination with CCPR);

• Discussion paper on advantages and disadvantages of a parallel approach to compound evaluation;

• Database on countries' needs for MRLs; and

• Priority List of veterinary drugs requiring evaluation or re-evaluation by JECFA.

Responsible Agencies: HHS/FDA/Center for Veterinary Medicine (CVM); USDA/FSIS.

U.S. Participation: Yes.

Codex Committee on Spices and Culinary Herbs

The Codex Committee on Spices and Culinary Herbs (CCSCH)is responsible for elaborating worldwide standards for spices and culinary herbs in their dried and dehydrated state in whole, ground, and cracked or crushed form. CCSCH also consults, as necessary, with other international organizations in the standards development process to avoid duplication.

The Committee was scheduled to meet September 21-26, 2020 in Budapest, Hungary but was postponed due to ongoing concerns related to the coronavirus (COVID-19) pandemic. The Committee met virtually on April 20-29, 2021.

The Committee completed work on the following standards recommended for final adoption at Step 8 by CAC44:

• Draft Standard for Dried Oregano;

• Draft Standard for Dried Roots, Rhizomes, and Bulbs—Dried or Dehydrated Ginger (Updated);

• Draft Standard for Dried Basil; and

• Draft Standard for Dried Cloves.

The Committee also recommended the follow proposals for new work for approval by CAC44:

• Group Standard for Spices Derived from Dried Fruits and Berries;

• Standard for Small Cardamom; and

• Standard for Turmeric.

The Committee will continue working on:

• Draft Standard for Saffron;

• Draft Standard for Dried Nutmeg;

• Consideration of the Proposals for New Work; and

• Update to the Template for SCH Standards.

Responsible Agencies: USDA/AMS; HHS/FDA/CFSAN.

U.S. Participation: Yes.

Ad hoc Codex Intergovernmental Task Force on Antimicrobial Resistance

The Ad hoc Codex Intergovernmental Task Force on Antimicrobial Resistance (TFAMR) was reconvened in 2017 and is responsible for reviewing and revising, as appropriate, the Code of Practice to Minimize and Contain Antimicrobial Resistance (CAC/RCP 61-2005) to address the entire food chain, in line with the mandate of Codex; and considering the development of Guidance on Integrated Surveillance of Antimicrobial Resistance, taking into account the guidance developed by the WHO Advisory Group on Integrated Surveillance of Antimicrobial Resistance (AGISAR) and relevant World Organization for Animal Health (OIE) documents. The objective of the Task Force is to develop science-based guidance on the management of foodborne antimicrobial resistance, taking full account of the WHO Global Action Plan on Antimicrobial Resistance, in particular Objectives 3 and 4, the work and standards of relevant international organizations, such as FAO, WHO, and OIE, and the One-Health approach, to ensure members have the necessary guidance to enable coherent management of antimicrobial resistance along the food chain. The Task Force is expected to complete this work within three (or a maximum of four) sessions, beginning with TFAMR5 (2017).

The 8th Session of TFAMR (TFAMR8), originally scheduled for December 2020, in the Republic of Korea, was postponed due to ongoing concerns related to the coronavirus (COVID-19) pandemic. The Task Force is scheduled to meet virtually on October 4-9, 2021.

The Task Force has the following item to be considered by the 44th Session of the Commission, pending conclusion of discussion at the virtual session.

For final adoption at Step 8:

• Proposed draft revision of the Code of Practice to Minimize and Contain Antimicrobial Resistance (CXC 61-2005).

The TFAMR will continue working on:

• Proposed draft guidelines on integrated surveillance of antimicrobial resistance.

Responsible Agencies: HHS/FDA; USDA.

U.S. Participation: Yes.

Adjourned Codex Commodity Committees

Several Codex Alimentarius Commodity Committees have adjourned sine die. The following Committees fall into this category:

Processed Fruits and Vegetables—Adjourned 2020

Responsible Agency: USDA/AMS; HHS/FDA/CFSAN.

U.S. Participation: Yes.

Cereals, Pulses and Legumes—Adjourned 2020

Responsible Agency: HHS/FDA/CFSAN.

U.S. Participation: Yes.

Cocoa Products and Chocolate—Adjourned 2001

Responsible Agency: HHS/FDA/CFSAN.

U.S. Participation: Yes.

Meat Hygiene—Adjourned 2003

Responsible Agency: USDA/FSIS.

U.S. Participation: Yes.

Milk and Milk Products—Adjourned 2017

Responsible Agency: USDA/AMS; HHS/FDA/CFSAN.

U.S. Participation: Yes.

Natural Mineral Waters—Adjourned 2008

Responsible Agency: HHS/FDA/CFSAN.

U.S. Participation: Yes.

Sugars—Adjourned 2019

Responsible Agency: HHS/FDA/CFSAN.

U.S. Participation: Yes.

Vegetable Proteins—Adjourned 1989

Responsible Agency: USDA/ARS.

U.S. Participation: Yes.

FAO/WHO Regional Coordinating Committees

The FAO/WHO Regional Coordinating Committees define the problems and needs of the regions concerning food standards and food control; promote within the committees contacts for the mutual exchange of information on proposed regulatory initiatives and problems arising from food control and stimulate the strengthening of food control infrastructures; recommend to the Commission the development of worldwide standards for products of interest to the region, including products considered by the committees to have an international market potential in the future; develop regional standards for food products moving exclusively or almost exclusively in intra-regional trade; draw the attention of the Commission to any aspects of the Commission's work of particular significance to the region; promote coordination of all regional food standards work undertaken by international governmental and non-governmental organizations within each region; exercise a general coordinating role for the region and such other functions as may be entrusted to them by the Commission; and promote the use of Codex standards and related texts by members.

There are six regional coordinating committees:

• Coordinating Committee for Africa;

• Coordinating Committee for Asia;

• Coordinating Committee for Europe;

• Coordinating Committee for Latin America and the Caribbean;

• Coordinating Committee for the Near East; and

• Coordinating Committee for North America and the South West Pacific.

Coordinating Committee for Africa

Meetings are not taking place in 2021. Meetings will reconvene in 2022.

Responsible Party: USDA/TFAA/USCO.

U.S. Participation: Yes (as an observer).

Coordinating Committee for Europe

Meetings are not taking place in 2021. Meetings will reconvene in 2022.

Responsible Party: USDA/TFAA/USCO.

U.S. Participation: Yes (as an observer).

Coordinating Committee for Latin America and the Caribbean

Meetings are not taking place in 2021. Meetings will reconvene in 2022.

Responsible Party: USDA/TFAA/USCO.

U.S. Participation: Yes (as an observer).

Coordinating Committee for North America and the South West Pacific

Meetings are not taking place in 2021. Meetings will reconvene in 2022.

Responsible Party: USDA/TFAA/USCO.

U.S. Participation: Yes.

Coordinating Committee for the Near East

Meetings are not taking place in 2021. Meetings will reconvene in 2022.

Responsible Party: USDA/TFAA/USCO.

U.S. Participation: Yes (as an observer).

Contact Information

U.S. Codex Office, United States Department of Agriculture, Room 4861, South Agriculture Building, 1400 Independence Avenue SW, Washington, DC 20250-3700, Phone: +1 (202) 205-7760, Fax: +1 (202) 720-3157, Email: uscodex@usda.gov.

Attachment 2

U.S. Codex Alimentarius Officials

Chairpersons From the United States

Codex Committee on Cereals, Pulses and Legumes (Adjourned sine die 2020)

Henry Kim, Ph.D., Senior Policy Analyst, Office of Food Safety, Center for Food Safety and Applied Nutrition, U.S. Food and Drug Administration, 5001 Campus Drive (HFS-317), College Park, MD, USA 20740-3835, Phone: +1 (240) 402-2023, henry.kim@fda.hhs.gov.

Codex Committee on Food Hygiene

Emilio Esteban, DVM, MBA, MPVM, Ph.D., Chief Scientist, Office of Public Health Science, Food Safety and Inspection Service, U.S. Department of Agriculture, 1400 Independence Ave. SW, Room 2129—South Building, Washington, DC 20250, Phone: +1 (202) 690-9058, emilio.esteban@usda.gov.

Codex Committee on Processed Fruits and Vegetables

Robin Chilton, Chief, Standardization Branch, Specialty Crops Inspection Division, Specialty Crops Program, Agricultural Marketing Service, U.S. Department of Agriculture, 100 Riverside Parkway, Suite 101, Fredericksburg, VA 22406, Phone: +1 (540) 361-1130, Robin.Chilton@usda.gov

Codex Committee on Residues of Veterinary Drugs in Foods

Kevin Greenlees, Ph.D., DABT, Senior Advisor for Science and Policy, Office of New Animal Drug Evaluation, Center for Veterinary Medicine, U.S. Food and Drug Administration, 7500 Standish Place (HFV-100), Rockville, MD 20855, Phone: +1 (240) 402-0638, Fax: +1 (240) 276-9538, kevin.greenlees@fda.hhs.gov.

U.S. Delegates and Alternate Delegates

Worldwide General Codex Subject Committees

Contaminants in Foods

(Host Government—The Netherlands)

U.S. Delegate: Lauren Posnick Robin, Sc.D., Branch Chief, Plant Products Branch, Division of Plant Products and Beverages, Office of Food Safety, Center for Food Safety and Applied Nutrition, U.S. Food and Drug Administration, 5001 Campus Drive (HFS-317), College Park, MD 20740, Phone: +1 (240) 402-1639, lauren.robin@fda.hhs.gov.

Alternate Delegate: Alexander Domesle Senior Advisor for Chemistry, Toxicology, and Related Sciences, U.S. Department of Agriculture, 1400 Independence Avenue SW, Washington, DC 20250, Phone: +1 202-720-9258, alexander.domesle@usda.gov.

Food Additives

(Host Government—China)

U.S. Delegate: Paul S. Honigfort, Ph.D., Director, Division of Food Contact Substances, Office of Food Additive Safety, U.S. Food and Drug Administration, 5001 Campus Drive (HFS-275), College Park, MD 20740, Phone: +1 (240) 402-1206, Fax: +1 (301) 436-2965, paul.honigfort@fda.hhs.gov.

Alternate Delegate: Daniel Folmer, Ph.D., Chemist, Center for Food Safety and Applied Nutrition, U.S. Food and Drug Administration, 5001 Campus Drive (Room 3017 HFS-265), College Park, MD 20740, Phone: +1 (240) 402-1274, daniel.folmer@fda.hhs.gov.

Food Hygiene

(Host Government—United States)

U.S. Delegate: Jenny Scott, Senior Advisor, Office of Food Safety, Center for Food Safety and Applied Nutrition, U.S. Food and Drug Administration, 5001 Campus Drive, HFS-300, Room 3B-014, College Park, MD 20740-3835, Phone: +1 (240) 402-2166, Fax: +1 (301) 436-2632, jenny.scott@fda.hhs.gov.

Alternate Delegate: William K. Shaw, Jr., Ph.D., Associate for Laboratory Services, Office of Public Health Science, U.S. Department of Agriculture, 1400 Independence Ave. SW, Room 3171, South Building, Washington, DC 20250, Phone: +1 (202) 720-6246, william.shaw@usda.gov.

Alternate Delegate: Andrew Chi Yuen Yeung, Ph.D., Branch Chief, Egg and Meat Products Branch, Division of Dairy, Egg and Meat Products, Office of Food Safety, Center for Food Safety and Applied Nutrition, U.S. Food and Drug Administration, 5001 Campus Drive, College Park, MD 20740, Phone: +1 (240) 402-1541, Fax: +1 (301) 436-2632, andrew.yeung@fda.hhs.gov.

Food Import and Export Certification and Inspection Systems

(Host Government—Australia)

U.S. Delegate: Mary Stanley, Senior Advisor, Office of International Coordination, Food Safety and Inspection Service, U.S. Department of Agriculture, 1400 Independence Avenue SW, Room 3151, Washington, DC 20250, Phone: +1 (202) 720-0287, Fax: +1 (202) 690-3856, mary.stanley@usda.gov.

Alternate Delegate: Jennifer Thomas, Senior Advisor, Office of the Center Director, Center for Food Safety and Applied Nutrition, U.S. Food and Drug Administration, 5001 Campus Drive, College Park, MD 20740, Phone: +1 (240) 420-2094, jennifer.thomas@fda.hhs.gov.

Food Labelling

(Host Government—Canada)

U.S. Delegate: Douglas Balentine, Ph.D., Senior Science Advisor, International Nutrition Policy, Center for Food Safety and Applied Nutrition, U.S. Food and Drug Administration, 5001 Campus Drive (HFS-830), College Park, MD 20740, Phone: +1 (240) 672-7292, Fax: +1 (301) 436-2636, douglas.balentine@fda.hhs.gov.

Alternate Delegate: Bryce Carson, Program Analyst, Office of Policy & Program Development, Food Safety and Inspection Service, U.S. Department of Agriculture, Denver Federal Center, Building 45, Entrance S-3, 695 Kipling Street, Denver, CO 80215, Phone: +1 (303) 236-9819, bryce.carson@usda.gov.

General Principles

(Host Government—France)

U.S. Delegate: Mary Frances Lowe, U.S. Manager for Codex Alimentarius, U.S. Codex Office, U.S. Department of Agriculture, 1400 Independence Avenue SW, Room 4861, Washington, DC 20250, Phone: +1 (202) 720-2057, maryfrances.lowe@usda.gov.

Methods of Analysis and Sampling

(Host Government—Hungary)

U.S. Delegate: Gregory Noonan, Ph.D., Director, Division of Bioanalytical Chemistry, Center for Food Safety and Applied Nutrition, Food and Drug Administration, 5001 Campus Drive, College Park, MD 20740, Phone: +1 (240) 402-2250, Fax: +1 (301) 436-2332, gregory.noonan@fda.hhs.gov.

Alternate Delegate: Timothy Norden, Ph.D., Technology and Science Division, Federal Grain Inspection Program, Agricultural Marketing Service, U.S. Department of Agriculture, 10383 N Ambassador Drive, Kansas City, MO 64153, Phone: +1 (816) 891-0470, Fax: +1 (816) 872-1253, timothy.d.norden@usda.gov.

Nutrition and Foods for Special Dietary Uses

(Host Government—Germany)

U.S. Delegate: Douglas Balentine, Ph.D., Senior Science Advisor International Nutrition Policy, Center for Food Safety and Applied Nutrition, U.S. Food and Drug Administration, 5001 Campus Drive (HFS-830), College Park, MD 20740, Phone: +1 (240) 672-7292, Fax: +1 (301) 436-2636, douglas.balentine@fda.hhs.gov.

Alternate Delegate: Pamela R. Pehrsson, Ph.D., Lead Scientist, Methods and Application of Food Composition Laboratory, Agricultural Research Service, U.S. Department of Agriculture, Room 105, Building 005, BARC-West, 10300 Baltimore Avenue, Beltsville, MD 20705, Phone: +1 (301) 504-0630, Fax: +1 (301) 504-0632, pamela.pehrsson@usda.gov.

Pesticide Residues

(Host Government—China)

U.S. Delegate: CAPT David Miller, Chief, Chemistry and Exposure Branch, Health Effects Division, Office of Pesticide Programs, U.S. Environmental Protection Agency, William Jefferson Clinton Building, 1200 Pennsylvania Avenue NW, Washington, DC 20460, Phone: +1 (703) 328-8755, miller.davidj@epa.gov.

Alternate Delegate: Alexander Domesle, Senior Advisor for Chemistry, Toxicology, and Related Sciences, Food Safety and Inspection Service, U.S. Department of Agriculture, 1400 Independence Avenue SW, Washington, DC 20250, Phone: +1 (202) 720-9258, alexander.domesle@usda.gov.

Residues of Veterinary Drugs in Foods

(Host Government—United States)

U.S. Delegate: Brandi Robinson, MPH, CPH, ONADE International Coordinator, Center for Veterinary Medicine, U.S. Food and Drug Administration, 7500 Standish Place (HFV-100), Rockville, MD 20855, Phone: +1 (240) 402-0645, brandi.robinson@fda.hhs.gov.

Alternate Delegate: Louis Bluhm, Ph.D., Director, Laboratory Quality Assurance Division, Office of Public Health Science, Food Safety and Inspection Service, U.S. Department of Agriculture, Russell Research Center, 950 College Station Road, Suite PB-4, Athens, GA 30605, Phone: +1 (706) 546-2359, louis.bluhm@usda.gov.

Worldwide Commodity Codex Committees (Active)

Fats and Oils

(Host Country—Malaysia)

U.S. Delegate: Paul South, Ph.D., Director, Division of Plant Products and Beverages, Office of Food Safety, Center for Food Safety and Applied Nutrition, U.S. Food and Drug Administration, 5001 Campus Drive (HFS-317), College Park, MD 20740, Phone: +1 (240) 402-1640, Fax: +1 (301) 436-2632, paul.south@fda.hhs.gov.

Alternate Delegate: Jill K. Moser, Ph.D., Lead Scientist, Functional Oil Research, Agricultural Research Service, National Center for Agricultural Utilization Research, U.S. Department of Agriculture, 1815 North University Street, Peoria, IL 61604, Phone: +1 (309) 681-6390, jill.moser@usda.gov.

Fish and Fishery Products

(Host Government—Norway)

U.S. Delegate: Nomination Currently Underway.

Alternate Delegate: Steven Wilson, Deputy Director, Office of International Affairs and Seafood Inspection, National Marine Fisheries Service, National Oceanic and Atmospheric Administration, U.S. Department of Commerce, 1315 East-West Highway, Silver Spring, Maryland 20910, Phone: +1 (301) 427-8312, steven.wilson@noaa.gov.

Fresh Fruits and Vegetables

(Host Government—Mexico)

U.S. Delegate: Dorian LaFond, International Standards Coordinator, Fruit and Vegetables Program, Specialty Crop Inspection Division, Agricultural Marketing Service, U.S. Department of Agriculture, 1400 Independence Avenue SW—Mail Stop 0247, Washington, DC 20250-0247, Phone: +1 (202) 690-4944, Fax: +1 (202) 690-1527, dorian.lafond@usda.gov.

Alternate Delegate: David T. Ingram, Ph.D., Consumer Safety Officer, Office of Food Safety, Fresh Produce Branch, Division of Produce Safety, Center for Food Safety and Applied Nutrition, U.S. Food and Drug Administration, 5001 Campus Drive, Room 3E027, College Park, MD 20740-3835, Phone: +1 (240) 402-0335, david.ingram@fda.hhs.gov.

Processed Fruits and Vegetables

(Host Government—United States)

U.S. Delegate: Dorian LaFond, International Standards Coordinator, Fruit and Vegetables Program, Specialty Crop Inspection Division, Agricultural Marketing Service, U.S. Department of Agriculture, 1400 Independence Avenue SW—Mail Stop 0247, Washington, DC 20250-0247, Phone: +1 (202) 690-4944, Fax: +1 (202) 690-1527, dorian.lafond@usda.gov.

Alternate Delegate: Rhoma Johnson, Ph.D., Consumer Safety Officer, Division of Plant Products and Beverages, Office of Food Safety, Center for Food Safety and Applied Nutrition, U.S. Food and Drug Administration, 5001 Campus Drive (HFS-317), College Park, MD 20740, Phone: +1 (240) 402-2066, rhoma.johnson@fda.hhs.gov.

Spices and Culinary Herbs

(Host Government—India)

U.S. Delegate: Dorian LaFond, International Standards Coordinator, Agricultural Marketing Service Specialty Crops Program, Specialty Crops Inspection Division, Agricultural Marketing Service, U.S. Department of Agriculture, 1400 Independence Avenue SW—Mail Stop 0247, Washington, DC 20250-0247, Phone: +1 (202) 690-4944, Fax: +1 (202) 690-1527, dorian.lafond@usda.gov.

Alternate Delegate: Aparna Tatavarthy, Ph.D. Microbiologist, Spices and Seasoning Mixes Team, Division of Plant Products and Beverages, Office of Food Safety, Center for Food Safety and Applied Nutrition, U.S. Food and Drug Administration, 5001 Campus Drive (HFS-317), College Park, MD 20740, Phone: +1 (240) 402-1013, Fax: +1 (301) 436-2632, aparna.tatavarthy@fda.hhs.gov.

Worldwide Ad Hoc Codex Task Forces (Active)

Antimicrobial Resistance (Reactivated 2016)

(Host Government—Republic of Korea)

U.S. Delegate: Donald A. Prater, DVM, Associate Commissioner for Foods and Veterinary Medicine, Office of Foods and Veterinary Medicine, U.S. Food and Drug Administration, 10903 New Hampshire Avenue, Silver Spring, MD 20993, Phone: +1 (301) 348-3007, donald.prater@fda.hhs.gov.

Alternate Delegate: Neena Anandaraman, DVM, MPH, Veterinary Science Policy Advisor, Office of the Chief Scientist, U.S. Department of Agriculture, Jamie L. Whitten Building, Room 339A, 1200 Independence Avenue SW, Washington, DC 20024, Phone: +1 (202) 431-0073, neena.anandaraman@usda.gov.

Worldwide Commodity Codex Committees (Adjourned)

Cereals, Pulses and Legumes (Adjourned sine die 2020)

(Host Government—United States)

U.S. Delegate: Henry Kim, Ph.D., Senior Policy Analyst, Office of Food Safety, Center for Food Safety and Applied Nutrition, U.S. Food and Drug Administration, 5001 Campus Drive (HFS-317), College Park, MD, USA 20740-3835, Phone: +1 (240) 402-2023, henry.kim@fda.hhs.gov.

Alternate Delegate: Patrick McCluskey, Supervisory Agricultural Marketing Specialist, Agricultural Marketing Service, Federal Grain Inspection Service, U.S. Department of Agriculture, 10383 N Ambassador Drive, Kansas City, MO 64153, Phone: +1 (816) 659-8403, patrick.j.mccluskey@usda.gov.

Cocoa Products and Chocolate (Adjourned sine die 2001)

(Host Government—Switzerland)

U.S. Delegate: Michelle Smith, Ph.D., Senior Policy Analyst, Office of Food Safety, Center for Food Safety and Applied Nutrition, U.S. Food and Drug Administration, 5001 Campus Drive (HFS-317), College Park, MD 20740-3835, Phone: +1 (240) 402-2024, Fax: +1 (301) 436-2632, michelle.smith@fda.hhs.gov.

Meat Hygiene (Adjourned sine die 2003)

(Host Government—New Zealand)

Delegate: Vacant.

Milk and Milk Products (Adjourned sine die 2017)

(Host Government—New Zealand)

U.S. Delegate: Christopher Thompson, Chief, Dairy Standardization Branch, Agricultural Marketing Service, U.S. Department of Agriculture, 1400 Independence Avenue SW, Mail Stop 0230, Room 2756, Washington, DC 20250, Phone: +1 (202) 720-9382, Fax: +1 (844) 804-4701, christopher.d.thompson@usda.gov.

Alternate Delegate: John F. Sheehan, Senior Advisor for Compliance and Enforcement, Office of Food Safety, Center for Food Safety and Applied Nutrition, U.S. Food and Drug Administration (HFS-315), Harvey W. Wiley Federal Building, 5001 Campus Drive, College Park, MD 20740, Phone: +1 (240) 402-1488, Fax: +1 (301) 436-2632, john.sheehan@fda.hhs.gov.

Natural Mineral Waters (Adjourned sine die 2008)

(Host Government—Switzerland)

Delegate: Vacant.

Codex Committee on Sugars (CCS) (Adjourned sine die 2019)

(Host Government—Colombia)

U.S. Delegate: Chia-Pei Charlotte Liang, Ph.D., Chemist, Office of Food Safety, Center for Food Safety and Applied Nutrition, U.S. Food and Drug Administration, 5001 Campus Drive, College Park, MD 20740, Phone: +1 (240) 402-2785, charlotte.liang@fda.hhs.gov.

Vegetable Proteins (Adjourned sine die 1989)

(Host Government—Canada)

Delegate: Vacant.

Ad Hoc Intergovernmental Task Forces (Dissolved)

Animal Feeding (Dissolved 2013)

(Host Government—Switzerland)

Delegate: Vacant.

[FR Doc. 2021-11719 Filed 6-3-21; 8:45 am]

BILLING CODE P